DEPARTMENT OF AGRICULTURE

Natural Resources Conservation Service in Alabama

Notice of Proposed Change to Section IV of the Field Office Technical Guide (FOTG) of the Natural Resources Conservation Service in Alabama

AGENCY: Natural Resources Conservation Service (NRCS) in Alabama, U.S. Department of Agriculture.

ACTION: Notice of availability of proposed changes in Section IV of the FOTG of the NRCS in Alabama for review and comment.

SUMMARY: It is the intention of NRCS in Alabama to issue conservation practice standards:

Agricultural Fuel Containment Facility—Code 701

Anionic Polyacrylamide (PAM) Erosion Control—Code 450

Livestock Shade Structure—Code 717

Pest Management—Code 595

DATES: Comments will be received until October 19, 2001.

FOR FURTHER INFORMATION CONTACT: Inquire in writing to Robert N. Jones, State Conservationist, Natural Resources Conservation Service (NRCS), 3381 Skyway Drive, PO Box 311, Auburn, AL 36830. Copies of the practice standards will be made available upon written request.

SUPPLEMENTARY INFORMATION: Section 343 of the Federal Agriculture Improvement and Reform Act of 1996 states that revisions made after enactment of the law to NRCS state technical guides used to carry out highly erodible land and wetland provisions of the law shall be made available for public review and comment. For the next 30 days the NRCS in Alabama will receive comments relative to the proposed changes. Following that period a determination will be made by the NRCS in Alabama regarding disposition of those comments and a final determination of change will be made.

Dated: August 21, 2001.
Ray E. Donaldson,
Assistant State Conservationist, Natural Resources Conservation Service.

[FR Doc. 01-23280 Filed 9-18-01; 8:45 am]

BILLING CODE 3410-16-P